DEPARTMENT OF HEALTH AND HUMAN SERVICES

Administration for Children and Families

Statement of Organization, Functions, and Delegations of Authority

AGENCY: Office on Trafficking in Persons, Administration for Children and Families, HHS.

ACTION: Notice.

SUMMARY: Statement of Organizations, Functions, and Delegations of Authority. The Administration for Children and Families (ACF) is restructuring the Office on Trafficking in Persons (OTIP) within the Office of the Assistant Secretary for Children and Families, ACF, into three divisions—Prevention, Protection, and Research and Policy—that report to the OTIP Director.

FOR FURTHER INFORMATION CONTACT: Katherine Chon, Director, Office on Trafficking in Persons, Administration for Children and Families, 330 C Street SW, Washington, DC 20202; (202) 401-9372.

SUPPLEMENTARY INFORMATION: This notice amends Part K of the Statement of Organization, Functions, and Delegations of Authority of the Department of Health and Human Services (DHSS), Administration for Children and Families (ACF), Office on Trafficking in Persons (OTIP). The Office of the Assistant Secretary for Children and Families established OTIP by an amendment to the Statement of Organization for ACF published at 80 FR 33269, June 11, 2015. The amendment added OTIP as a new office under the Office of the Assistant Secretary for Children and Families. OTIP is responsible for developing and implementing programs that assist both foreign and domestic victims of human trafficking as well as implementing anti-trafficking legislation, appropriations, and Administration-driven priorities. OTIP executes its mission through grant and contract awards and by leveraging government and public-private partnerships. OTIP executes these responsibilities with a combination of federal and contract staff, and occasional graduate-level interns. Since its inception in June 2015, OTIP's responsibilities have expanded exponentially driven by new statutory requirements, increased appropriations, Executive Order directives, Administration-driven priorities, and emerging issues in the anti-trafficking field that have necessitated an increase in inter- and intra-agency collaboration.

The changes announced herein describe the restructuring of OTIP within the Office of the Assistant Secretary for Children and Families, ACF, into three divisions—Prevention, Protection, and Research and Policy—that report to the OTIP Director.

I. Under Chapter KA.20, the Office on Trafficking in Persons Makes the Following Changes

KA.10 E. Organization. The Office on Trafficking in Persons (KAI): OTIP has the following three strategic goals: Establish a cohesive national human trafficking victim service delivery system; develop a culture of data-informed anti-trafficking programming and policymaking; and integrate survivor-informed anti-trafficking efforts into HHS prevention strategies. OTIP implements numerous legislatively mandated programs and policies to combat human trafficking. OTIP's activities are authorized by federal statutes including, but not limited to, the Trafficking Victims Protection Act, as amended and reauthorized; the Justice for Victims of Trafficking Act; the Preventing Sex Trafficking and Strengthening Families Act; the Frederick Douglass Trafficking Victims Prevention and Protection Reauthorization Act; and the Stop, Observe, Ask, and Respond to Health and Wellness Act (or the SOAR to Health and Wellness Act).

The OTIP Director reports to the Assistant Secretary, ACF. The Director provides strategic leadership and direction on anti-trafficking programs and policies, anti-trafficking prevention efforts, building health and human service capacity to respond to human trafficking, strategies to increase victim identification and access to services, and strengthen the long-term health and well-being outcomes of survivors of human trafficking. OTIP is responsible for the overall leadership of anti-trafficking programs and services under the purview of ACF, including, but not limited to, developing and implementing programs that assist both foreign and domestic victims of human trafficking as well as implementing anti-trafficking statutory, appropriations, and Administration-driven priorities.

OTIP has the following three divisions: Protection (victim assistance), Prevention (capacity building, prevention, and public awareness), and Research and Policy. A description of each of the proposed divisions follows.

Protection Division

The Protection Division is comprised of OTIP's victim service and assistance activities. It includes the Trafficking Victim Assistance Program, the Domestic Victims of Human Trafficking Programs, the Child Eligibility and Adult Certification programs, Child Victim Coordination Activities, and the National Human Trafficking Hotline. Through a combination of grant activities and internal direct services, OTIP assists adult and minor, foreign and domestic victims of severe forms of trafficking in persons and participates in intra- and inter-agency coordination efforts to inform anti-trafficking program and policy development to improve our response to victims and efficiency in federally supported programming.

Prevention Division

The Prevention Division develops cutting-edge training and technical assistance, promotes survivor engagement, raises public awareness, facilitates regional outreach and coordination, and disseminates prevention education resources with the ultimate goal of assisting communities and programs in building capacity to effectively identify victims, implement trafficking prevention efforts, and coordinate education and outreach efforts. The Division oversees the National Human Trafficking Training and Technical Assistance Center, prevention education programming and the National Prevention Action Plan, the SOAR to Health and Wellness program, and the Look Beneath the Surface Public Awareness Campaign and Communication that includes OTIP's website content and conference and meeting planning and representation.

Research and Policy Division

The Research and Policy Division is responsible for the identification, coordination, and implementation of the anti-trafficking research agenda and policy development activities. The Division coordinates program evaluation and research, prepares documentation to comply with regulatory requirements, reviews and analyzes proposed legislation, develops and tracks program performance metrics, represents OTIP at internal and external data and policy events, provides technical support for data collection efforts, guides the development of program information systems, prepares annual and ad hoc reports and informational materials, and ensures program development is evidence-based and theory-driven through research and evaluation efforts.

Linda K. Hitt,
Executive Secretariat Certifying Officer.

[FR Doc. 2020-21807 Filed 10-1-20; 8:45 am]

BILLING CODE 4184-47-P